DEPARTMENT OF TRANSPORTATION

Federal Aviation Administration

14 CFR Part 71

[Docket No. FAA-2021-1043; Airspace Docket No. 21-ACE-4]

RIN 2120-AA66

Proposed Amendment of Jet Routes J-82 and J-94; Extension of Area Navigation (RNAV) Route Q-122; Amendment of VOR Federal Airways V-100, V-138, V-456, and V-505; Removal of VOR Federal Airway V-462; and Removal of the Fort Dodge, IA, Domestic Low Altitude Reporting Point; in the Vicinity of Fort Dodge, IA

AGENCY: Federal Aviation Administration (FAA), DOT.

ACTION: Notice of proposed rulemaking (NPRM).

SUMMARY: The FAA proposes to amend two Jet Routes; extend one high altitude RNAV Q-route; amend four VHF Omnidirectional Range (VOR) Federal airways; remove one VOR Federal airway; and remove one Domestic Low Altitude Reporting Point, in the vicinity of Fort Dodge, IA. This action is necessary due to the planned decommissioning of the VOR portion of the Fort Dodge, IA, VOR/Tactical Air Navigation (VORTAC), which provides navigation guidance to portions of the affected Air Traffic Service (ATS) routes. The Fort Dodge VOR is being decommissioned as part of the FAA's VOR Minimum Operational Network (VOR MON) program. Although the Fort Dodge VOR is being decommissioned, the FAA plans to retain the collocated Distance Measuring Equipment (DME) and Tactical Air Navigation (TACAN) portions of the navigational aid.

DATES: Comments must be received on or before January 27, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-1043; Airspace Docket No. 21-ACE-4 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would improve the efficient flow of air traffic within the NAS by lessening the dependency on ground-based navigation, and it would expand the availability of RNAV routes in the northcentral United States.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-1043; Airspace Docket No. 21-ACE-4) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-1043; Airspace Docket No. 21-ACE-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

Background

The FAA is planning decommissioning activities for the VOR portion of the Fort Dodge, IA, VORTAC with a proposed effective date of September 8, 2022. The Fort Dodge VOR was one of the candidate VORs identified for discontinuance by the FAA's VOR MON program and listed in the Final policy statement notice, “Provision of Navigation Services for the NextGen Transition to Performance-Based Navigation (PBN) (Plan for Establishing a VOR MON),” published in the Federal Register of July 26, 2016 (81 FR 48694), Docket No. FAA-2011-1082. Although the VOR portion of the Fort Dodge, IA, VORTAC is planned for decommissioning, the co-located Distance Measuring Equipment (DME) and Tactical Air Navigation (TACAN) portions of the navigational aid are being retained in support of current and future RNAV procedures and Department of Defense mission requirements.

The ATS routes affected by the Fort Dodge, IA, VOR being decommissioned consist of J-82, J-94, Q-122, V-100, V-138, V-456, V-462, and V-505. With the planned decommissioning of the Fort Dodge VOR, the remaining ground-based navigational aid coverage in the area is insufficient to enable the continuity of these affected routes. As such, the proposal would result in the removal of airway segments for V-138, V-456, V-505; the creation of gaps in the ATS routes for J-82, J-94; the widening of the airway gap for V-100; and the entire removal of an airway for V-462. To overcome the loss of segments in the ATS routes, instrument flight rules (IFR) traffic may use adjacent low altitude VOR Federal airways, such as V-13, V-120, V-161, V-172, and T-392. IFR traffic may also use the remaining high altitude Jet Routes, such as J-84, J-100, J-128 and J-148. Pilots equipped with RNAV capabilities may also file point to point through the affected area using fixes that will remain in place, or receive air traffic control radar vectors. Visual flight rules (VFR) pilots, who elect to navigate through the affected area, may utilize the ATC services previously listed.

Additionally, the FAA proposes to extend the RNAV route, Q-122, 52-miles to the east. The extension of the Q-122 route would supplement the enroute structure for high altitude traffic, and facilitate the flow of traffic in the area southwest of the Chicago, IL, terminal area. This proposed new RNAV route would also support the FAA's plan to transition the National Airspace System from a ground-based surveillance and navigation system, to a satellite-based system.

Finally, the FAA proposes to remove the Fort Dodge, IA, Domestic Low Altitude Reporting point. The reporting point is no longer required by air traffic control after the proposed route amendments would be implemented.

The Proposal

The FAA is proposing an amendment to 14 CFR part 71 to amend Jet Routes J-82 and J-94; extend RNAV route Q-122; amend VOR Federal airways V-100, V-138, V-456, and V-505; remove VOR Federal Airway V-462; and remove the Fort Dodge, IA reporting point.

The proposed ATS route and reporting point amendments are described below.

J-82. J-82 currently extends between the Battle Ground, WA, VORTAC and the Goshen, IN, VORTAC. The FAA proposes to remove the route segment between the Sioux Falls, SD, VORTAC and the Dubuque, IA, VORTAC. As a result, the Jet route would extend between the Battle Ground, WA, VORTAC and Sioux Falls, SD, VORTAC; and between the Dubuque, IA, VORTAC and the Goshen, IN, VORTAC.

J-94. J-94 extends between the Mustang, NV, VORTAC and the Flint, MI, VORTAC. The FAA proposes to remove the route segment between the O'Neill, NE, VORTAC and Dubuque, IA, VORTAC. As a result, the Jet route would extend between the Mustang, NV, VORTAC and the O'Neill, NE, VORTAC; and between the Dubuque, IA, VORTAC and the Flint, MI, VORTAC.

Q-122. Q-122 currently extends between the MOGEE, CA, waypoint (WP) and the Fort Dodge, IA, VORTAC (FOD). The FAA is proposing to remove the Fort Dodge, IA, VORTAC route point from the route description and establish a new waypoint (VIRGN, IA), located 3.08 NM south of the current Fort Dodge, IA, VORTAC. The VIRGN, IA waypoint would support navigation, on Q-122, in lieu of the removed Fort Dodge, IA, VORTAC. From the VIRGN, IA waypoint, the FAA is proposing to extend Q-122, 52 miles to the east, to the VIGGR, IA fix, which would now become the easternmost endpoint of the airway. The FAA also proposes to remove the BEARR, UT fix and the O'Neil, NE, VORTAC (ONL) from the legal description only. Because the route points are on straight segments of the existing Q-122 route, it is not necessary to include them in the legal description. Although the BEARR, UT fix and the O'Neil, NE, VORTAC would be removed from the legal description, both would remain in service and continue to be charted on the route. The FAA also proposes to convert the KATES, NE fix to a waypoint, to support Q-122 navigation. The KATES, NE waypoint and the newly established VIRGN, IA waypoint, would also be charted to facilitate RNAV holding. As such, the proposed route, east of the KATES, NE waypoint, will overfly the VIRGN, IA, waypoint, located 3.08 nm south of the current Fort Dodge, IA, VORTAC, and will continue to the new airway endpoint at the VIGGR, IA, fix. As a result, the Q-122 route would extend between the MOGEE, CA, waypoint and the VIGGR, IA, fix.

V-100. V-100 extends between the Medicine Bow, WY, VOR/DME and the O'Neil, NE, VORTAC; between the Fort Dodge, IA, VORTAC and the Dubuque, IA, VORTAC; and between the Northbrook, IL, VOR/DME and the Litchfield, MI, VOR/DME. The FAA proposes to remove the segment between the Fort Dodge, IA, VORTAC and the Waterloo, IA, VOR/DME. The unaffected portions of the existing airway would remain as charted. Additional changes to other segments of V-100 have been proposed in a separate rulemaking proposal.

V-138. V-138 extends between the Riverton, WY, VOR/DME and the Sidney, NE, VOR/DME; and between the Grand Island, NE, VOR/DME and the Mason City, IA, VOR/DME. The FAA proposes to remove the segment between the Omaha, IA, VORTAC and the Mason City, IA, VOR/DME. As a result, V-138 would extend between the Riverton, WY, VOR/DME and the Sidney, NE, VOR/DME; and between the Grand Island, NE, VOR/DME and the Omaha, IA, VORTAC.

V-456. V-456 extends between the Fort Dodge, IA, VORTAC and the Flying Cloud, MN, VOR/DME. The FAA proposes to remove the segment between the Fort Dodge, IA, VORTAC and the Mankato, MN, VOR/DME. As a result, V-456 would extend between the Mankato, MN, VOR/DME and the Flying Cloud, MN, VOR/DME.

V-462. V-462 extends between the Fort Dodge, IA, VORTAC and the Sioux Falls, SD, VORTAC. The FAA proposes to remove the airway in its entirety.

V-505. V-505 extends between the Des Moines, IA, VORTAC and the Gopher, MN, VORTAC; and between the Duluth, MN, VORTAC and the International Falls, MN, VOR/DME. The FAA proposes to remove the segment between the Des Moines, IA, VORTAC and the Mason City, IA, VOR/DME. As a result, V-505 would extend between the Mason City, IA, VOR/DME and the Gopher, MN, VORTAC; and between the Duluth, MN, VORTAC and the International Falls, MN, VOR/DME.

Fort Dodge: The Fort Dodge, IA, Domestic Low Altitude Reporting Point would be removed.

All of the navigational aid radials in the ATS Route descriptions below are stated in True degrees.

United States Jet Routes, RNAV Q-routes, VOR Federal airways, and Domestic Low Altitude Reporting points are published in paragraphs 2004, 2006, 6010(a), and 7001, respectively, of FAA Order JO 7400.11F, dated August 10, 2021, and effective September 15, 2021, which are incorporated by reference in 14 CFR 71.1. The ATC routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA JO Order 7400.11F, Airspace Designations and Reporting Points, dated August 10, 2021, and effective September 15, 2021, is amended as follows:

Paragraph 2004 Jet Routes.

* * * * *

J-82 [Amended]

From Battle Ground, WA; Donnelly, ID; Dubois, ID; Crazy Woman, WY; Rapid City, SD; to Sioux Falls, SD. From Dubuque, IA; INT Dubuque 095° and Joliet, IL, 317° radials; Joliet; to Goshen, IN.

* * * * *

J-94 [Amended]

From Mustang, NV; Lovelock, NV; Battle Mountain, NV; Lucin, UT; Rock Springs, WY; Scottsbluff, NE; to O'Neill, NE. From Dubuque, IA; Northbrook, IL; Pullman, MI; to Flint, MI.

* * * * *

Paragraph 2006 United States Area Navigation Routes.

* * * * *

Q122 MOGEE, CA to VIGGR, IA [Amended]
MOGEE, CA | WP | (Lat. 38°20′10.00″ N, long. 121°23′23.00″ W)
MACUS, NV | WP | (Lat. 39°53′00.00″ N, long. 118°48′00.00″ W)
MCORD, NV | WP | (Lat. 40°12′00.00″ N, long. 118°01′00.00″ W)
Lucin, UT (LCU) | VORTAC | (Lat. 41°21′46.63″ N, long. 113°50′26.23″ W)
KURSE, WY | WP | (Lat. 42°04′29.66″ N, long. 105°09′36.16″ W)
KATES, NE | WP | (Lat. 42°32′27.71″ N, long. 096°46′26.52″ W)
VIRGN, IA | WP | (Lat. 42°33′47.92″ N, long. 094°17′39.35″ W)
VIGGR, IA | FIX | (Lat. 42°33′18.67″ N, long. 093°07′26.83″ W)

* * * * *

Paragraph 6010(a) VOR Federal Airways.

* * * * *

V-100 [Amended]

From Medicine Bow, WY; Scottsbluff, NE; Alliance, NE; Ainsworth, NE; to O'Neill, NE. From Waterloo, IA; to Dubuque, IA. From Northbrook, IL; INT Northbrook 095° and Keeler, MI, 271° radials; Keeler; to Litchfield, MI.

* * * * *

V-138 [Amended]

From Riverton, WY; 35 miles, 80 miles 107 MSL, 16 miles 85 MSL, Medicine Bow, WY; Cheyenne, WY; to Sidney, NE. From Grand Island, NE; INT of Grand Island 099° and Lincoln, NE, 267° radials; Lincoln; to Omaha, IA.

* * * * *

V-456 [Amended]

From Mankato, MN; to Flying Cloud, MN.

* * * * *

V-462 [Removed]

* * * * *

V-505 [Amended]

From Mason City, IA; INT Mason City 349° and Gopher, MN, 188° radials; to Gopher. From Duluth, MN; INT Duluth 331° and Hibbing, MN, 120° radials; Hibbing; INT Hibbing 319° and International Falls, MN, 182° radials; to International Falls.

* * * * *

Paragraph 7001 Domestic Low Altitude Reporting Points.

* * * * *

Fort Dodge, IA [Removed]

* * * * *

Issued in Washington, DC, on December 7, 2021.
Margaret C. Flategraff,
Acting Manager, Rules and Regulations Group.

[FR Doc. 2021-26887 Filed 12-10-21; 8:45 am]

BILLING CODE 4910-13-P